DEPARTMENT OF HOUSING AND URBAN DEVELOPMENT

[Docket No. FR-5750-N-20]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-887; VA: Ms. Jessica L. Kaplan, Department of Veterans Affairs, Service (183C), 810 Vermont Ave. NW., Washington, DC 20420, (202) 461-8234; (These are not toll-free numbers).

Dated: May 8, 2014.
Ann Marie Oliva,
Deputy Assistant Secretary (Acting), for Special Needs.

TITLE V, FEDERAL SURPLUS PROPERTY PROGRAM FEDERAL REGISTER REPORT FOR 05/16/2014

Suitable/Available Properties

Building

New York

JJP Bronx VA Medical Ctr.

903 Avenue St. John

Bronx NY 10455

Landholding Agency: VA

Property Number: 97201310002

Status: Unutilized

Comments: UPDATED INFO. 700-1,000 usable square feet.; residential; significant renovations needed; contact VA for more information

Oregon

Crescent Office—East Modular,

(FS ID 2014) Crescent Admin Site

Crescent OR

Landholding Agency: Agriculture

Property Number: 15201330016

Status: Excess

Comments: offsite removal only: to be vacated in 395 days if interest is shown & removed in 10 days after award of property by HHS; 1,202 sf. 31 yrs. old; poor condition.

Crescent Lehman Building,

(FS ID 2006) Crescent Admin Site

Crescent OR

Landholding Agency: Agriculture

Property Number: 15201330017

Status: Excess

Comments: offsite removal only: vacated immediately if interest is shown & removed in 10 days after award of property by HHS; 518 sf; conference room 81 yrs.old; poor condition with lead containing paint.

Crescent Office, FS ID 2005

Crescent Admin Site

Crescent OR

Landholding Agency: Agriculture

Property Number: 15201330018

Status: Excess

Comments: offsite removal only: vacated in 395 days if interest is shown & removed in 10 days after award of property by HHS; 2400 sf; 56 yrs. old; poor condition; building materials with Asbestos & lead paint.

Crescent Office—BM Modular,

(FS ID 2004) Crescent Admin Site

Crescent OR

Landholding Agency: Agriculture

Property Number: 15201330019

Status: Excess

Comments: offsite removal only; vacated in 395 days if interest is shown & remove in 10 days after award of property by HHS; 3608 sf; 27 yrs. old; poor condition; building materials with lead paint.

Crescent Wellness Building,

(FS ID 1325) Crescent Admin Site

Crescent OR

Landholding Agency: Agriculture

Property Number: 15201330020

Status: Excess

Comments: offsite removal only; vacated in 395 days if interest is shown & remove in 10 days after award of property by HHS; 640 sf; 78 yrs. old; poor condition; building materials with Asbestos & lead paint.

Crescent RS Bunkhouse,

(FS ID 1323) Crescent Admin Site

Crescent OR

Landholding Agency: Agriculture

Property Number: 15201330021

Status: Excess

Comments: offsite removal only; vacated immediately if interest is shown & remove in 10 days after award of property by HHS; 1056 sf; fair/poor condition; 66 yrs. old; building material with Asbestos & lead paint.

Crescent Fire Bunkhouse,

(FS ID 1305) Crescent Admin Site

Crescent OR

Landholding Agency: Agriculture

Property Number: 15201330022

Status: Excess

Comments: offsite removal only; vacated immediately if interest is shown & remove in 10 days after award of property by HHS; 1216 sf; poor condition; 12+mo. vacant; building materials with Asbestos & lead paint.

Crescent Paint Storage,

(FS ID 2602) Crescent Admin. Site

Crescent OR

Landholding Agency: Agriculture

Property Number: 15201330023

Status: Excess

Comments: offsite removal only; vacated immediately if interest is shown & remove in 10 days after award of property by HHS; 530 sf; shed, 51 yrs. old, poor condition; building materials with lead. paint.

Crescent Timber Storage,

(FS ID 2348) Crescent Admin. Site

Crescent OR

Landholding Agency: Agriculture

Property Number: 15201330024

Status: Excess

Comments: offsite removal only; vacated immediately if interest is shown & remove in 10 days after award of property by HHS; 170 sf; shed; 63 yrs. old. poor condition; building materials with lead paint.

Crescent Admin. Garage,

(FS ID 2310) Crescent Admin. Site

Crescent OR

Landholding Agency: Agriculture

Property Number: 15201330025

Status: Excess

Comments: offsite removal only; vacated immediately if interest is shown & remove in 10 days after award of property by HHS; 336 sf; 60 yrs. old, good condition; building materials with lead paint.

Crescent Storage (Pumphouse)

(FS ID 2230) Crescent Admin. Site

Crescent OR

Landholding Agency: Agriculture

Property Number: 15201330026

Status: Excess

Comments: offsite removal only; vacated immediately if interest is shown & remove in 10 days after award of property by HHS; 323 sf; 46 yrs. old; good/poor condition; concrete block bldg with Asbestos & lead paint.

Crescent Office—South Modular

(FS ID 2016) Crescent Admin. Site

Crescent OR

Landholding Agency: Agriculture

Property Number: 15201330027

Status: Excess

Comments: offsite removal only; vacated in 395 days if interest is shown & remove in 10 days after award of property by HHS; 2020 sf; 18 yrs. old, poor condition; building materials with lead paint.

[FR Doc. 2014-10948 Filed 5-15-14; 8:45 am]

BILLING CODE 4210-67-P